FEDERAL COMMUNICATIONS COMMISSION

47 CFR Part 73

[DA 03-1053, MM Docket No. 00-246, RM-9859]

Digital Television Broadcast Service; Great Falls, MT

AGENCY: Federal Communications Commission.

ACTION: Final rule.

SUMMARY: The Commission, at the request of KRTV Communications, Inc., substitutes DTV channel 7 for DTV channel 44 at Great Falls, Montana. See 65 FR 79048, December 18, 2000. DTV channel 7 can be allotted to Great Falls, Montana, in compliance with the principle community coverage requirements of Section 73.625(a) at reference coordinates 47-32-09 N. and 111-17-02 W. with a power of 160, HAAT of 180 meters and with a DTV service population of 91 thousand. Since the community of Great Falls is located within 400 kilometers of the U.S.-Canadian border, concurrence from the Canadian was obtained for this allotment. With this action, this proceeding is terminated.

DATES: Effective May 27, 2003.

FOR FURTHER INFORMATION CONTACT: Pam Blumenthal, Media Bureau, (202) 418-1600.

SUPPLEMENTARY INFORMATION: This is a synopsis of the Commission's Report and Order, MM Docket No. 00-246, adopted March 31, 2003, and released April 9, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Montana, is amended by removing DTV channel 44 and adding DTV channel 7 at Great Falls.

Federal Communications Commission.
Barbara A. Kreisman,
Chief, Video Division, Media Bureau.

[FR Doc. 03-9161 Filed 4-14-03; 8:45 am]

BILLING CODE 6712-01-P